DEPARTMENT OF TRANSPORTATION

Federal Railroad Administration

[Docket Number FRA-2003-15145]

Notice of Public Hearing; Burlington Northern and Santa Fe Railway

The Burlington Northern and Santa Fe Railway has petitioned the Federal Railroad Administration (FRA) seeking approval of the proposed discontinuance and removal of the automatic block signal system, between Hettinger, North Dakota, milepost 926.0 and Terry, Montana, milepost 1078.9, on the Montana Division, Hettinger Subdivision, a distance of approximately 153 miles, and govern train movements by Track Warrant Control.

This block signal application proceeding is identified as Docket No. FRA-2003-15145.

The FRA has issued a public notice seeking comments of interested parties and has conducted its own field investigation in this matter. After examining the carrier's proposal and letters of protest, FRA has determined that a public hearing is necessary before a final decision is made on this proposal.

Accordingly, a public hearing is hereby set for 9 a.m. Mountain Daylight Time, on Thursday, September 18, 2003, in the Hettinger Research Extension Center, located at 102 Highway 12 West, Hettinger, North Dakota 58639. Interested parties are invited to present oral statements at the hearing.

The hearing will be an informal one and will be conducted in accordance with Rule 25 of the FRA Rules of Practice (49 CFR 211.25), by a representative designated by the FRA.

The hearing will be a non adversary proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC, on August 12, 2003.
Michael J. Logue,
Deputy Associate Administrator for Safety Compliance and Program Implementation.

[FR Doc. 03-21137 Filed 8-18-03; 8:45 am]

BILLING CODE 4910-06-P